DEPARTMENT OF ENERGY

Federal Energy Regulatory Commission

[Docket No. RP00-301-000]

Sea Robin Pipeline Company; Notice of Proposed Changes in FERC Gas Tariff

June 2, 2000.

Take notice that on May 30, 2000, Sea Robin Pipeline Company (Sea Robin) tendered for filing as part of its FERC Gas Tariff, First Revised Volume No. 1, the revised tariff sheets listed on Appendix A attached to the filing, to be effective June 30, 2000.

Sea Robin states that the purpose of this filing, made in accordance with the provisions of Section 154.204 of the Commission's Regulations, is to reflect tariff changes necessitated by the acquisition of Sea Robin by Trunkline Gas Company. Specifically, the modifications include: (1) Updating the General Terms and Conditions and the Form of Service Agreements for address and telephone number changes, as well as formatting the address area for consistency; (2) updating the marketing affiliate information in the General Terms and Conditions Section 18; (3) replacing references to Birmingham, Alabama time with Central Clock time; (4) reflecting that the laws of the State of Texas will govern the validity and interpretation of the srvice agreements; and (5) reflecting the system map image on Sheet No. 6.

Sea Robin states that copies of this filing are being served on all affected customers and applicable state regulatory agencies.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-14389 Filed 6-7-00; 8:45 am]

BILLING CODE 6717-01-M